ENVIRONMENTAL PROTECTION AGENCY

[EPA-HQ-OPPT-2017-0002; FRL-9958-33]

Risk Evaluation Scoping Efforts Under TSCA for Ten Chemical Substances; Notice of Public Meeting

AGENCY: Environmental Protection Agency (EPA).

ACTION: Notice.

SUMMARY: EPA will hold a public meeting to receive input and information to assist the Agency in its efforts to establish the scope of risk evaluations under development for the ten chemical substances designated on December 19, 2016 for risk evaluations pursuant to the Toxic Substances Control Act (TSCA), as amended by the Frank R. Lautenberg Chemical Safety for the 21st Century Act. In particular, EPA is providing the public an opportunity to identify information specifically related to the conditions of use for the ten chemical substances (i.e., the circumstances under which a chemical substance is intended, known, or reasonably foreseen to be manufactured, processed, distributed in commerce, used, or disposed of). EPA plans to use this information as it develops the scoping documents for the TSCA risk evaluations of the ten chemical substances; these scoping documents must be issued within six months of the Federal Register notice that designated the chemical substances for a TSCA risk evaluation (i.e., for these ten chemical substances, the scoping documents must be issued by June 19, 2017).

DATES: Meeting Date. The meeting will be held on February 14, 2017 from 9:00 a.m. to 3:00 p.m.

To request accommodation of a disability, please contact the meeting logistics person listed under FOR FURTHER INFORMATON CONTACT, preferably by February 3, 2017, to give EPA as much time as possible to process your request.

Meeting Registration. You may register online (preferred) or in person at the meeting. To register online, for the meeting, go to: https://tscachemicaluse.eventbrite.com. Advance registration for the meeting must be completed no later than February 10, 2017. On-site registration will be permitted, but seating and speaking priority will be given to those who pre-register by the deadline.

Comments. EPA will hear oral comments at the meeting, and will accept written comments and materials submitted to the dockets on or before March 1, 2017. For further information about participation and submitting materials, see Unit IV. under SUPPLEMENTARY INFORMATION.

ADDRESSES: Meeting. The meeting will be held at the Ronald Reagan Building and International Trade Center, in the Polaris Room, located at 1300 Pennsylvania Avenue Northwest, Washington, DC 20004. The meeting will also be available by remote access for registered participants.

FOR FURTHER INFORMATION CONTACT: For technical information contact: Sheila Canavan, Chemical Control Division, Office of Pollution Prevention and Toxics, Environmental Protection Agency, 1200 Pennsylvania Ave. NW., Washington, DC 20460-0001; telephone number: (202) 566-1978; email address: Canavan.sheila@epa.gov.

For meeting logistics or registration contact: Klara Zimmerman; telephone number: (301) 634-1722; email address: Klara_Zimmerman@abtassoc.com.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

You may be potentially affected by this action if you manufacture (defined under TSCA to include import), process, distribute in commerce, use or dispose of any of the ten chemical substances identified for risk evaluation in the Federal Register notice published on December 19, 2016, entitled “Designation of Ten Chemical Substances for Initial Risk Evaluations Under the Toxic Substances Control Act” (81 FR 91927). This action may be of particular interest to entities that are regulated under TSCA (e.g., entities identified under North American Industrial Classification System (NAICS) codes 325 and 324110, among others). Since other entities may also be interested, the Agency has not attempted to describe all the specific entities and corresponding NAICS codes for entities that may be interested in or affected by this action.

B. How can I get copies of this document and other related information?

The docket for this meeting, identified by docket identification (ID) number EPA-HQ-OPPT-2017-0002, is available at http://www.regulations.gov or at the Office of Pollution Prevention and Toxics Docket (OPPT Docket), Environmental Protection Agency Docket Center (EPA/DC), West William Jefferson Clinton Bldg., Rm. 3334, 1301 Constitution Ave. NW., Washington, DC. The Public Reading Room is open from 8:30 a.m. to 4:30 p.m., Monday through Friday, excluding legal holidays. The telephone number for the Public Reading Room is (202) 566-1744, and the telephone number for the OPPT Docket is (202) 566-0280. Please review the visitor instructions and additional information about the docket available at http://www.epa.gov/dockets.

II. Background

EPA is required to conduct chemical risk evaluations under section 6(b) the Toxic Substances Control Act (TSCA), as amended by the Frank R. Lautenberg Chemical Safety for the 21st Century Act, to determine whether a chemical substance presents an unreasonable risk of injury to health or the environment. (15 U.S.C. 2605(b)(4)). Pursuant to TSCA section 6(b)(2)(A), EPA identified ten chemical substances for initial risk evaluations under TSCA in the Federal Register notice of December 19, 2016, entitled “Designation of Ten Chemical Substances for Initial Risk Evaluations Under the Toxic Substances Control Act” (81 FR 91927) (FRL-9956-47).

The first step in the risk evaluation process, as outlined in TSCA, is to issue a scoping document for each chemical substance within six months of its designation in the Federal Register. TSCA section 6(b)(4)(B) also directs EPA to establish, by a rulemaking promulgated within one year of enactment, a process for conducting risk evaluations, which includes the process for issuing scoping documents. The Agency expects to propose such a procedural rule shortly, which will be applicable to risk evaluations once finalized. However, TSCA directed EPA to concurrently ensure that risk evaluations were being conducted on ten chemical substances by December 19, 2016. As a result, EPA must publish scoping documents for these initial ten chemical substances by June 19, 2017, which is before the procedural rule is expected to be finalized. Accordingly, EPA's scoping efforts for these ten substances will be based directly on the terms of TSCA section 6(b)(4)(D), and not the pending procedural rulemaking. Each completed scoping document will describe the scope of information about the chemical substance that the Agency expects to consider in the risk evaluation, including its conditions of use, hazards, and exposures, including to potentially exposed or susceptible subpopulations.

At the public meeting, EPA will provide an overview briefing to describe the information the Agency has obtained thus far relating to the conditions of use for the ten chemical substances. To assist EPA in this scoping process, EPA is providing the public with an opportunity to identify information specifically related to the conditions of use (i.e., the circumstances under which a chemical substance is intended, known, or reasonably foreseen to be manufactured, processed, distributed in commerce, used, or disposed of). EPA plans to use this information as it develops scoping documents for the TSCA risk evaluations for the ten chemical substances.

In view of the statutory deadline to complete these ten risk evaluations, it will be difficult, and may not be possible, for EPA to adjust the scope of the evaluations following release of the scoping document under TSCA section 6(b)(4)(D). In addition, EPA notes that the scoping document is a foundation for determining the scope of preemption arising after final risk evaluations (TSCA section 18(a)(1)(B)). Thus, EPA requests that members of the public provide any available information relating to the scope of the risk evaluations at the February meeting or to the docket by March 1, 2017. EPA will likely not be able to accommodate information as to scope received after that time.

III. Meeting

A. Remote Access

The meeting will be accessible remotely for registered participants. Registered participants will receive information on how to connect remotely to the meeting prior to its start.

B. Public Participation at the Meeting

Anyone may register to attend the meeting as observers and may also register to provide oral comments on the day of the meeting. A registered speaker is encouraged to focus on issues directly relevant to the meeting's subject matter. Each speaker is allowed no more than 5 minutes to provide oral comments. To accommodate as many registered speakers as possible, speakers may present oral comments only, without visual aids or written material.

C. Submitting Written Materials

Anyone may submit written materials to the dockets described in Unit IV.C.

IV. How can I request to participate in this meeting?

A. Registration

To attend the meeting in person or to receive remote access, you must register no later than February 10, 2017, using one of the methods described under ADDRESSES. While on-site registration will be available, seating will be on a first-come, first-served basis, with priority given to early registrants, until room capacity is reached. The Agency anticipates that approximately 125 people will be able to attend the meeting in person. For registrants not able to attend in person, the meeting will also provide remote access capabilities; registered participants will be provided information on how to connect to the meeting prior to its start.

B. Required Registration Information

Members of the public may register to attend as observers or speak if planning to offer oral comments during the scheduled public comment period. To register for the meeting online, you must provide your full name, organization or affiliation, and contact information to the on-line signup or to the meeting registration contact person listed under FOR FURTHER INFORMATION CONTACT. Do not submit any information in your request that is considered Confidential Business Information (CBI). Requests to participate in the meeting, identified by docket ID No. EPA-HQ-OPPT-2017-0002, must be received on or before February 10, 2017.

C. Risk Evaluation Dockets for the Ten Chemical Substances

You may also elect to provide information to EPA's dockets for the ten chemical substances for which risk evaluations have begun. EPA has established separate dockets for each of the ten chemical substances for risk evaluation to facilitate receipt of information which may be useful to the Agency's risk evaluations. As noted above, EPA is asking the public for assistance in identifying information specifically related to the conditions of use (i.e., intended, known or reasonably foreseen uses) that would assist the Agency in identifying potential exposure scenarios (pathways, routes and populations). EPA is requesting that any such information by submitted by March 1, 2017.

1,4-Dioxane. Docket ID No.: EPA-HQ-OPPT-2016-0723.

1-Bromopropane. Docket ID No.: EPA-HQ-OPPT-2016-0741.

Asbestos. Docket ID No.: EPA-HQ-OPPT-2016-0736.

Carbon Tetrachloride. Docket ID No.: EPA-HQ-OPPT-2016-0733.

Cyclic Aliphatic Bromide Cluster (Hexabromocyclododecane or HBCD). Docket ID No.: EPA-HQ-OPPT-2016-0735.

Methylene Chloride. Docket ID No.: EPA-HQ-OPPT-2016-0742.

N-Methylpyrrolidone (NMP). Docket ID No.: EPA-HQ-OPPT-2016-0743.

Pigment Violet 29 (Anthra[2,1,9-def:6,5,10-d'e'f]diisoquinoline-1,3,8,10(2H,9H)-tetrone). Docket ID No.: EPA-HQ-OPPT-2016-0725.

Trichloroethylene (TCE). Docket ID No.: EPA-HQ-OPPT-2016-0737.

Tetrachloroethylene (also known as Perchloroethylene). Docket ID No.: EPA-HQ-OPPT-2016-0732.

Information can be submitted by one of the following methods:

Online using the Federal eRulemaking Portal: http://www.regulations.gov. Follow the online instructions for submitting information or comments. Once submitted, this information cannot be edited or withdrawn. EPA may publish any information received to its public docket. Do not submit electronically any information you consider to be CBI or other information whose disclosure is restricted by statute. Multimedia submissions (audio, video, etc.) must be accompanied by a written statement or information. The written information should include discussion of all points you wish to make. Learn more about CBI or multimedia submissions, and general guidance on making effective comments or providing useful information by visiting EPA's Web site at https://www.epa.gov/dockets/commenting-epa-dockets.

Mail: Document Control Office (7407M), Office of Pollution Prevention and Toxics (OPPT), Environmental Protection Agency, 1200 Pennsylvania Avenue NW., Washington, DC 20460-0001.

Hand Delivery: To make special arrangements for hand delivery or delivery of boxed information, please follow instructions at http://www.epa.gov/dockets/contacts.html.

Authority: 15 U.S.C. 2605.

Dated: January 12, 2017.
James J. Jones,
Assistant Administrator, Office of Chemical Safety and Pollution Prevention.

[FR Doc. 2017-01236 Filed 1-18-17; 8:45 am]

BILLING CODE 6560-50-P